DEPARTMENT OF COMMERCE

International Trade Administration

[A-428-602]

Brass Sheet and Strip from Germany: Extension of Time Limit for the Final Results of Antidumping Duty Administrative Review

AGENCY: Import Administration, International Trade Administration, U.S. Department of Commerce.

FOR FURTHER INFORMATION CONTACT: Dennis McClure, AD/CVD Operations, Office 3, Import Administration, International Trade Administration, U.S. Department of Commerce, 14th Street and Constitution Ave, NW Washington, DC 20230; (202) 482-5973.

SUPPLEMENTARY INFORMATION:

Background

On April 27, 2009, we published a notice initiating an administrative review of the antidumping duty order on brass sheet and strip from Germany covering one respondent, Wieland-Werke A.G. See Initiation of Antidumping and Countervailing Duty Administrative Reviews and Request for Revocation in Part, 74 FR 19042 (April 27, 2009). The preliminary results of this review covering the period March 1, 2008, through February 28, 2009, were published on April 13, 2010. See Brass Sheet and Strip From Germany: Preliminary Results of Antidumping Duty Administrative Review, 75 FR 18801 (April 13, 2010). The final results of this administrative review were originally due no later than August 4, 2010. As explained in the memorandum from the Deputy Assistant Secretary for Import Administration, the Department has exercised its discretion to toll deadlines for the duration of the closure of the Federal Government from February 5, through February 12, 2010. Thus, all deadlines in this segment of the proceeding have been extended by seven days. The revised deadline for the final results of this review is currently August 11, 2010. See Memorandum to the Record from Ronald Lorentzen, DAS for Import Administration, regarding “Tolling of Administrative Deadlines As a Result of the Government Closure During the Recent Snowstorm,” dated February 12, 2010. On April 30, 2010, the Petitioners¹ requested that the deadline for the final results in this administrative review be extended by the full 60 days authorized. The Petitioners commented that sales and cost verification reports have not been issued, and that interested parties will need time to submit briefs. The Petitioners also commented that the Department will need time to hold a possible hearing.

¹ The Petitioners include GBC Metals, LLC of Global Brass and Copper, Inc., doing business as Olin Brass, Heyco Metals, Inc., Luvata Buffalo, Inc., PMX Industries, Inc., and Revere Copper Products, Inc.

Extension of the Time Limit for the Final Results

Section 751(a)(3)(A) of the Tariff Act of 1930, as amended (the Act), requires that the Department issue the final results of an administrative review within 120 days after the date on which the preliminary results are published. If it is not practicable to complete the review within that time period, section 751(a)(3)(A) of the Act allows the Department to extend the deadline for the final results to a maximum of 180 days after the date on which the preliminary results are published.

In this proceeding, the Department agrees with the Petitioners that additional time is necessary to complete the final results of this administrative review. Because the Department had to reschedule its cost verification due to inclement weather, the Department intends to conduct its cost verification in July 2010. In order to ensure that interested parties have sufficient time to analyze and comment on the verification report, we determine it is not practicable to complete this administrative review within the original time limit. Consequently, the Department is extending the time limit for completion of the final results of this review by 60 days, in accordance with section 751(a)(3)(A) of the Act. The final results are now due October 12, 2010, since the revised deadline falls on a Sunday and the following day is a federal holiday.

This notice is published pursuant to sections 751(a)(3)(A) and 777(i)(1) of the Act.

Dated: May 11, 2010.
John M. Andersen,
Acting Deputy Assistant Secretary for Antidumping and Countervailing Duty Operations.

[FR Doc. 2010-11702 Filed 5-14-10; 8:45 am]

BILLING CODE 3510-DS-S